DEPARTMENT OF AGRICULTURE

Forest Service

Conejos Peak Ranger District, Rio Grande National Forest; Colorado; Rio de los Pinos Vegetation Management Project

AGENCY: Forest Service, Rio Grande National Forest, USDA.

ACTION: Notice of intent to prepare an environmental impact statement.

SUMMARY: The project analyzes salvage harvesting of spruce beetle killed and infested trees on timber production areas in the Rio de los Pinos watershed. This project will provide an opportunity to improve and relocate the Los Pinos Trailhead (Trail #736). This area was analyzed under the County Line Vegetation Management Project in June 2005, however changing forest conditions have warranted further analysis. An EA was initiated in 2007, and comments received during scoping and controversy surrounding similar projects on the Rio Grande National Forest indicate that an environmental impact statement (EIS) should be prepared.

DATES: Comments concerning the scope of the analysis must be received by 30 days from the date of this notice. The draft environmental impact statement is expected December 12, 2008 and the final environmental impact statement is expected February 2, 2009.

ADDRESSES: Send written comments to Mr. Jack Lewis, Team Leader, Rio Grande National Forest, Conejos Peak Ranger District, 15571 CR T.5, LaJara, CO 81140. Electronic mail (e-mail with subject, Rio de los Pinos comments) may be sent to comments-rocky-mountain.rio-grande-conejos-peak@fs.fed.us and a FAX may be sent to (719) 274-6301.

FOR FURTHER INFORMATION CONTACT: Same as above.

SUPPLEMENTARY INFORMATION:

Purpose and Need for Action

The purpose of this action is to implement the Rio Grande National Forest's Forest Plan by making live and dead timber available to the timber industry as part of the Rio Grande National Forest's timber sale program.

This proposal has been initiated because existing conditions vary from the Desired Conditions defined in Forest Plan MAP 5.13. This disparity indicates a need for improved forest stand conditions, reforestation of areas severely impacted by spruce beetle, reducing long-term fuel buildup in areas severely impacted by spruce beetle, salvage of dead trees before they lose their economic value, and provision of wood products to benefit the local and regional economy.

When seeking to reduce the standing dead fuel component, the goal is to reduce the duration and intensity of a potential wildland fire, thus influencing the severity of its impact. Standing dead fuel is expected to become heavy down fuel within 20-50 years.

Proposed Action

The Rio Grande National Forest proposes to salvage Engelmann spruce trees that have been killed by, or are infested with, spruce beetle. Additionally, we propose to perform ¼ to 5 acre patch cuts across the salvage units to enhance visual resources, and to regenerate areas heavily impacted by the spruce beetle by planting Engelmann spruce seedlings within the Rio de los Pinos Analysis Area. The proposed treatments would contribute toward providing a sustained yield of forest products from the Rio Grande National Forest and would ensure meeting or moving toward Forest Plan Desired Conditions for Management Area Prescriptions (MAP) 5.13. This proposed action would begin in 2009-2010.

Salvage harvesting of Engelmann spruce would occur on approximately 607 to 878 acres. Anywhere from 38 to 60 trees per acre 8″ DBH and above will remain in the salvage units for scenic resources. Patch cuts would occur on approximately 60 acres, harvesting both Engelmann spruce and Subalpine fir. Ground-based logging systems would be utilized on the entire area, yielding 8-13.1 MMBF (16,000-26,200 ccf) timber volume. After harvest, reforestation would occur on approx. 200 acres of non-stocked and under-stocked areas. The exact planting area would depend how well existing natural regeneration meets Forest Plan stocking requirements.

Under this proposal, trees 8 inches DBH and larger would be considered for harvest. With the exception of the patch cuts, all live non-beetle infested trees not interfering with operations would be left. Rehabilitation of areas experiencing heavy spruce mortality would occur through natural and artificial regeneration.

Most of the treatment areas are accessible using the existing transportation system. Some road reconstruction, maintenance, and reopening one or more old unclassified roads would be required. Upon project completion, all classified roads that were closed to motor vehicle travel prior to the project would remain closed. Classified roads that are presently closed and old roads that would be reconstructed for log haul would be rehabilitated by subsoiling and seeding according to Project Design Criteria to reduce resource impacts and to put the road templates back into resource production.

Actions proposed in this EIS will provide an opportunity to relocate and improve the Los Pinos trailhead (Trail 736) which currently has little parking space and is only accessible by high clearance vehicles.

Responsible Official

Roberto Martinez, District Ranger, Conejos Peak Ranger District, 15571 County Road T.5, La Jara, CO 81140.

Nature of Decision To Be Made

The EIS discloses the environmental consequences of implementing the proposed action and alternatives to that action. A separate Decision Notice (DN), signed by the Responsible Official, will explain the management and environmental reasons for choosing the selected alternative; discuss the rationale for rejecting other alternatives; and disclose how the decision responds to the relevant issues.

The decision for the responsible officials to make in the DN is whether or not to implement some level of timber sale harvest and other activities described on all, part, or none of the Analysis Area given considerations of multiple-use goals and objectives. If the decision is made to authorize some level of harvest, the management framework will be described (including Standards and monitoring) to ensure that Desired Condition objectives are met or that movement occurs toward those objectives in an acceptable timeframe.

Scoping Process

The Rio Grande National Forest invited public comment and participation regarding this project through the Schedule of Proposed Actions (SOPA), public notice in the Valley Courier (October 9, 2008)—the newspaper of record, and a scoping letter sent to potentially concerned public, tribal governments, State and other Federal agencies (October 9, 2008). Comments received in these previous scoping efforts will be retained and considered in this EIS.

An additional comment period will be provided during scoping for this EIS in the form of this notice in the Federal Register, the Schedule of Proposed Actions (SOPA), public notice in the Valley Courier—the newspaper of record, and letters sent to potentially concerned public, tribal governments, State and other Federal agencies.

Comment Requested

This notice of intent initiates the scoping process which guides the development of the environmental impact statement. The Forest Service invites written comments on the proposed action, including any issues to consider, as well as any concerns relevant to the analysis. In order to be most useful, scoping comments should be received within 30 days of publication of this Notice of Intent. Comments received in response to this notice, including names and addresses of those who comment, will be considered part of the public record on this Proposed Action and will be available for public inspection. If you wish to withhold your name or street address from public review or from disclosure under the Freedom of Information Act (FOIA), you must state this prominently at the beginning of your written comment. Such requests will be honored to the extent allowed by law, but persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days. All submissions from organizations or businesses, and from individuals identifying themselves as representatives or officials of organizations or businesses, will be available for public inspection in their entirety. Comments submitted anonymously will be accepted and considered; however, those who submit anonymous comments will not have standing to appeal the subsequent decision under 36 CFR part 215.

Comments and FS responses will be addressed and contained in the Final EIS.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22, 36 CFR 220.5(b) and Forest Service Handbook 1909.15, Section 21.

Dated: October 1, 2008.
Roberto Martinez,
District Ranger/Field Office Manager.

[FR Doc. E8-24112 Filed 10-9-08; 8:45 am]

BILLING CODE 3410-11-P